DEPARTMENT OF HOMELAND SECURITY

Federal Emergency Management Agency

[Docket ID: FEMA-2013-0015; OMB No. 1660-0017]

Agency Information Collection Activities: Proposed Collection; Comment Request

AGENCY: Federal Emergency Management Agency, DHS.

ACTION: Notice.

SUMMARY: The Federal Emergency Management Agency, as part of its continuing effort to reduce paperwork and respondent burden, invites the general public and other Federal agencies to take this opportunity to comment on a revision of a currently approved information collection. In accordance with the Paperwork Reduction Act of 1995, this notice seeks comments concerning information collected for the Public Assistance (PA) program eligibility determinations, grants management, and compliance with Federal laws and regulations.

DATES: Comments must be submitted on or before November 15, 2013.

ADDRESSES: To avoid duplicate submissions to the docket, please use only one of the following means to submit comments:

(1) Online. Submit comments at www.regulations.gov under Docket ID FEMA-2013-0015. Follow the instructions for submitting comments.

(2) Mail. Submit written comments to Docket Manager, Office of Chief Counsel, DHS/FEMA, 500 C Street SW., Suite 840, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Clifford Brown, Executive Officer, Recovery Directorate, Public Assistance Division, (202) 646-4136. You may contact the Records Management Division for copies of the proposed collection of information at facsimile number (202) 646-3347 or email address: FEMA-Information-Collections-Management@dhs.gov.

SUPPLEMENTARY INFORMATION: The Robert T. Stafford Disaster Relief and Emergency Assistance Act, 42 U.S.C. 5121-5207 (the Stafford Act), authorizes grants to assist State, Tribal, and local governments and certain Private Non-Profit entities with the response to and recovery from disasters following Presidentially declared major disasters and emergencies. 44 CFR Part 206 specifies the information collections necessary to facilitate the provision of assistance under the PA Program. 44 CFR 206.202 describes the general application procedures for the PA program.

The Sandy Recovery Improvement Act of 2013 (SRIA) directed FEMA to establish a Dispute Resolution Pilot Program for Public Assistance (assistance provided under sections 403, 406, or 407 of the Stafford Act), to include arbitration. FEMA selected arbitration as one method of dispute resolution that will be used. Section 1105 of SRIA will only be available for disasters that occurred on or after October 30, 2012, where the applicant has a legitimate dispute equal to or in excess of $1 million (adjusted annually) with a non-Federal share, and applicants have completed a first appeal pursuant to 44 CFR 206.206. To seek arbitration, applicants must submit a Request for Arbitration form, which may be accompanied by a recommendation from the Grantee.

Collection of Information

Title: Public Assistance Program.

Type of Information Collection: Revision of a currently approved information collection.

FEMA Forms: FEMA Form 009-0-49 Request for Public Assistance; FEMA Form 009-0-91 Project Worksheet (PW); FEMA Form 009-0-91A Project Worksheet (PW)—Damage Description and Scope of Work Continuation Sheet; FEMA Form 009-0-91B Project Worksheet (PW)—Cost Estimate Continuation Sheet; FEMA Form 009-0-91C Project Worksheet (PW)—Maps and Sketches Sheet; FEMA Form 009-0-91D Project Worksheet (PW)—Photo Sheet; FEMA Form 009-0-120 Special Considerations Questions; FEMA Form 009-0-121 PNP Facility Questionnaire; FEMA Form 009-0-123 Force Account Labor Summary Record; FEMA Form 009-0-124 Materials Summary Record; FEMA Form 009-0-125 Rented Equipment Summary Record; FEMA Form 009-0-126 Contract Work Summary Record; FEMA Form 009-0-127 Force Account Equipment Summary Record; FEMA Form 009-0-128 Applicant's Benefits Calculation Worksheet; FEMA Form 009-0-111, Quarterly Progress Reports; FEMA Form 055-0-0-1, Request for Arbitration.

Abstract: The information collected is utilized by FEMA to make determinations for Public Assistance grants based on the information supplied by the respondents.

Affected Public: State, Local or Tribal Government.

Number of Respondents: 56.

Number of Responses: 346,960.

Estimated Total Annual Burden Hours: 361,826 hours.

Estimated Cost: There are no record keeping, capital, start-up maintenance costs associated with this information collection.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: September 6, 2013.
Loretta Cassatt,
Branch Chief, Records Management Division, Mission Support Bureau, Federal Emergency Management Agency, Department of Homeland Security.

[FR Doc. 2013-22433 Filed 9-13-13; 8:45 am]

BILLING CODE 9111-23-P